FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 19, 2006.

A. Federal Reserve Bank of Kansas City (Donna J. Ward, Assistant Vice President) 925 Grand Avenue, Kansas City, Missouri 64198-0001:

1. Charles Patrick Larsh, Yucaipa, California; Jeffrey Scott Larsh, Indianapolis, Indiana; Lorene Stuart Larsh, Oklahoma City, Oklahoma; Steven Stuart Larsh, Libby, Montana; Mary Katherine McCarson, Kannapolis, North Carolina; Krista Marie Gomez, Arlington, Virginia; Thelma Stuart Stevens, Billings, Montana; Douglas Grant Stuart, Wagoner, Oklahoma; Douglas Grant Stuart, Jr., Austin, Texas; Elizabeth Allison Stuart, Silver Spring, Maryland; Ellen Rothermel Stuart, Dallas, Texas; Emily Anne Stuart, Columbia, Missouri; John Arthur Stuart, Jr., M.D., Dallas, Texas; John Arthur Stuart, III, Chandler, Arizona; Katherine Allison Stuart, West Lafayette, Indiana; Margaret Elizabeth Stuart, Chicago, Illinois; Monica Ann Stuart, Wagoner, Oklahoma; Sarah Rothermel Stuart, Nashville, Tennessee; as a group acting in concert; and Ellen Rothermel Stuart and John Arthur Stuart, Jr., M.D., both of Dallas, Texas; as individuals, to acquire voting shares of Pawhuska Financial Corp., and thereby indirectly acquire voting shares of First National Bank in Pawhuska, both in Pawhuska, Oklahoma.

Board of Governors of the Federal Reserve System, November 29, 2006.
Robert deV. Frierson,
Deputy Secretary of the Board.

[FR Doc. E6-20443 Filed 12-1-06; 8:45 am]

BILLING CODE 6210-01-S